DEPARTMENT OF DEFENSE

Office of the Secretary

Meeting of Department of Defense Federal Advisory Committees—Defense Innovation Board

AGENCY: Office of the Under Secretary of Defense for Research and Engineering, Department of Defense (DoD).

ACTION: Meeting of Federal advisory committee.

SUMMARY: The DoD is publishing this notice to announce that the following Federal Advisory Committee meeting of the Defense Innovation Board (DIB) will take place.

DATES: Open to the public Tuesday, March 5, 2024, from 4:00 p.m. to 4:45 p.m.

ADDRESSES: The open meeting will take place virtually, via the Defense Visual Information Distribution Service (DVIDS).

FOR FURTHER INFORMATION CONTACT: Dr. Marina Theodotou, the Designated Federal Officer (DFO) at (571) 372-7344 (voice) or osd.innovation@mail.mil. Mailing address is Defense Innovation Board, 4800 Mark Center Drive, Suite 15D08, Alexandria, VA 22350-3600. Website: https://innovation.defense.gov. The most up-to-date changes to the meeting agenda and link to the virtual meeting can be found on the website.

SUPPLEMENTARY INFORMATION: Due to circumstances beyond the control of the Designated Federal Officer and the Department of Defense, the Defense Innovation Board was unable to provide public notification required by 41 CFR 102-3.150(a) concerning its March 5, 2024 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”) and 41 Code of Federal Regulations (CFR) 102-3.140 and 102-3.150.

Purpose of Meeting: The mission of the DIB is to provide the Secretary of Defense, the Deputy Secretary of Defense, and the Under Secretary of Defense for Research and Engineering (USD(R&E)) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the Secretary of Defense, the Deputy Secretary of Defense, or the USD(R&E). The objective of this DIB meeting is to gather information from guest speakers and discuss relevant issues related to its current research in preparation for the upcoming Spring 2024 Public Meeting scheduled on April 17, 2024.

Agenda: The DIB's open meeting will take place on March 5, 2024, from 4:00 p.m. to 4:45 p.m. During this time, the DIB will meet with the following guest speakers from the Defense Entrepreneurs Forum (DEF) Board: Ian Eishen, Evanna Hu, Jesse Levin, Michael Madrid, Megan Metzger, and Jen Sovada, to gather information and discuss specific issues regarding talent management, partnerships and collaboration, responsible AI, internal barriers, risk taking, and tech adoption in preparation for the DIB's upcoming Spring 2024 Public Meeting scheduled on April 17, 2024, to ensure proposed recommendations are practical and actionable to drive and scale innovation across the DoD.

Meeting Accessibility: Pursuant to Federal statutes and regulations (the FACA and 41 CFR 102-3.140 and 102-3.150), the open meeting will be accessible to the public virtually on March 5, 2024, from 4:00 p.m. to 4:45 p.m. Members of the public wishing to attend the meeting virtually will be able to access a link published on the DIB website the morning of the meeting.

Written Statements: Pursuant to 41 CFR 102-3.105(j) and 102-3.140 and section 1009(a)(3) of the FACA, the public or interested organizations may submit written comments or statements to the DIB in response to the stated agenda of the meeting or regarding the DIB's mission in general. Written comments or statements should be submitted to Dr. Marina Theodotou, the DFO, via email to osd.innovation@mail.mil. Comments or statements must include the author's name, title or affiliation, address, and daytime phone number. The DFO must receive written comments or statements being submitted in response to the agenda set forth in this notice by 12:00 p.m. on March 2, 2024, to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: February 14, 2024.
Aaron T. Siegel,
Alternate OSD Federal Register Liaison Officer, Department of Defense.

[FR Doc. 2024-03461 Filed 2-20-24; 8:45 am]

BILLING CODE 6001-FR-P